DEPARTMENT OF LABOR

Employment and Training Administration

[TA-W-59,094]

The U.S. Baird Corporation, Stratford, CT, Including Employees of the U.S. Baird Corporation, Stratford, CT Located in TA-W-59,094A Tallahasse, FL, TA-W-59,094B Jenison, MI, TA-W-59,094C Middleville, MI, TA-W-59,094D Englewood, OH; Amended Certification Regarding Eligibility To Apply for Worker Adjustment Assistance and Alternative Trade Adjustment Assistance

In accordance with section 223 of the Trade Act of 1974 (19 U.S.C. 2273), and section 246 of the Trade Act of 1974 (26 U.S.C. 2813), as amended, the Department of Labor issued a Certification Regarding Eligibility to Apply for Worker Adjustment Assistance and Alternative Trade Adjustment Assistance on June 1, 2006, applicable to workers of The U.S. Baird Corporation, Stratford, Connecticut. The notice was published in the Federal Register on June 22, 2006 (71 FR 35949).

At the request of a State agency, the Department reviewed the certification for workers of the subject firm. New information shows that worker separations have occurred involving four employees of the Stratford, Connecticut facility of The U.S. Baird Corporation located in Tallahassee, Florida, Jenison, Michigan, Middleville, Michigan and Englewood, Ohio. Mr. John Mitteer, Mr. Don Farmer, Mr. Eric Shogren and Mr. James Glaser provided management and sales function services for the production of multiple transfer presses, wire forming machines and wire bending machines produced by the subject company.

Based on these findings, the Department is amending this certification to include employees of the Stratford, Connecticut facility of The U.S. Baird Corporation located in Tallahassee, Florida, Jenison, Michigan, Middleville, Michigan and Englewood, Ohio.

The intent of the Department's certification is to include all workers of The U.S. Baird Corporation, Stratford, Connecticut who were adversely affected by increased customer imports.

The amended notice applicable to TA-W-59,094 is hereby issued as follows:

“All workers of The U.S. Baird Corporation (TA-W-59,094), and including employees of The U.S. Baird Corporation, Stratford, Connecticut, located in Tallahassee, Florida (TA-W-59,094A), Jenison, Michigan (TA-W-59,094B), Middleville, Michigan (TA-W-59,094C) and Englewood, Ohio (TA-W-59,094D), who became totally or partially separated from employment on or after March 27, 2005, through June 1, 2008, are eligible to apply for adjustment assistance under section 223 of the Trade Act of 1974 and are also eligible to apply for alternative trade adjustment assistance under section 246 of the Trade Act of 1974.”

Signed at Washington, DC this 19th day of July 2006.
Elliott S. Kushner,
Certifying Officer, Division of Trade Adjustment Assistance.

[FR Doc. E6-12197 Filed 7-28-06; 8:45 am]

BILLING CODE 4510-30-P